DEPARTMENT OF THE INTERIOR

Bureau of Land Management

[OR-086-6332-AA; GP01-0221]

Notice of Temporary Closure of Access to Public Lands; Tillamook County, OR

AGENCY: Bureau of Land Management, Salem District, Tillamook Field Office.

ACTION: A temporary closure for public entry to certain roads and lands administered by the Bureau of Land Management (BLM), Tillamook Field Office, Salem District, Oregon.

SUMMARY: The BLM is temporarily closing a portion of the Nestucca Access Road and the Alder Glen Campground in Tillamook County to public entry.

EFFECTIVE DATE: This closure is in effect July 31, 2001, until further notice to allow for completion of road maintenance and bridge replacement.

FOR FURTHER INFORMATION CONTACT: Dana R. Shuford, Field Manager, Bureau of Land Management, Tillamook Resource Area, 4610 Third Street, Tillamook, OR 97141. (503) 815-1100.

SUPPLEMENTARY INFORMATION: The Public Lands affected by this closure are the Alder Glen Campground and a portion of the Nestucca Access Road. The Nestucca Access Road (3-6-13) from the west end of the Alder Glen bridge to the east end of Elk Creek bridge will be closed to the public. The following roads which access the closed portion of the Nestucca Access Road will be closed at their intersection with the Nestucca Access Road: Bear Ridge Road (3-7-32.1), Bear Creek Road (3-7-32) and Hoag Pass Road (3-7-28). The purpose for this closure is for public safety and construction site security.

Closure Order

The following described lands are closed to the public: Alder Glen Campground and the Nestucca Access Road (3-6-13) from the west end of the Alder Glen bridge to the east end of Elk Creek bridge.

1. Prohibited Act: Under 43 CFR 8364.1, the Bureau of Land Management will enforce the following rule within the closure area described above:

You must not enter the closed area.

2. Exemptions: Persons who are exempt from these rules include any Federal, State, or local officer or employee in the scope of his or her duties, members of any organized rescue or fire-fighting force in performance of an official duty, contractors and their employees while engaged in official duty, and others authorized in writing by the Bureau of Land Management.

3. Penalties: Authority for this closure is found under section 303(a) of the Federal Land Policy and Management Act of 1976 (43 U.S.C. 1733(a)) and 43 CFR 8360.0-7. Any person who fails to comply with a restriction order may be tried before a United States Magistrate and fined not more than $1,000 or imprisoned for no more than 12 months, or both. Such violations may also be subject to the higher fines provided for by 18 U.S.C. 3571.

Dana R. Shuford,
Field Manager.

[FR Doc. 01-19028 Filed 7-30-01; 8:45 am]

BILLING CODE 4310-33-P